DEPARTMENT OF COMMERCE

International Trade Administration

[A-580-815, A-580-816]

Certain Cold-Rolled and Corrosion-Resistant Carbon Steel Flat Products From the Republic of Korea: Amended Final Results of Antidumping Duty Administrative Reviews in Accordance with Court Decision

AGENCY: Import Administration, International Trade Administration, U.S. Department of Commerce.

ACTION: Notice of Amended Final Results of Antidumping Duty Administrative Reviews in accordance with Court Decision.

SUMMARY: On October 13, 2000, the United States Court of International Trade (“CIT”) affirmed the second remand determination of the 1995-96 administrative reviews for Dongbu Steel Co., Ltd. (“Dongbu”), Pohang Iron and Steel Co., Ltd., (“POSCO”), and Union Steel Manufacturing Co., Ltd. (“Union”) by the Department of Commerce (“the Department”) arising from the antidumping duty orders on Certain Cold-Rolled and Corrosion-Resistant Carbon Steel Flat Products From the Republic of Korea. See Pohang Iron and Steel Co., Ltd. et al v. United States, Consol. Ct. No. 98-04-00906, Slip Op. 00-132 (Ct. Int'l Trade October 13, 2000). As there is now a final and conclusive court decision in this case, we are amending the final results and amended final results of the reviews in this matter. We will instruct the U.S. Customs Service to liquidate entries subject to these amended final results.

DATES: Effective Date: June 11, 2002.

FOR FURTHER INFORMATION CONTACT: Marlene Hewitt, Antidumping/Countervailing Duty Enforcement, Import Administration, International Trade Administration, U.S. Department of Commerce, 14th Street and Constitution Avenue, N.W.,Washington DC 20230; telephone (202) 482-1385.

SUPPLEMENTARY INFORMATION:

Background

On August 19, 1993, the Department issued antidumping duty orders on Certain Cold-Rolled and Corrosion-Resistant Carbon Steel Flat Products From the Republic of Korea. See Antidumping Duty Order: Certain Cold-Rolled and Corrosion-Resistant Carbon Steel Flat Products From the Republic of Korea, 58 FR 44159 (August 19, 1993). On March 18, 1998, the Department published its final results of the 1995-1996 administrative reviews (third review) of Certain Cold-Rolled and Corrosion-Resistant Carbon Steel Flat Products From the Republic of Korea for three Korean manufacturers/exporters: Dongbu, POSCO, and Union. See Certain Cold-Rolled and Corrosion-Resistant Carbon Steel Flat Products From the Republic of Korea; Final Results of Antidumping Administrative Review, 63 FR 13170 (March 18, 1998) (“Final Results”). On April 27, 1998, the Department published the amended final results of the 1995-1996 Administrative Review of Certain Cold-Rolled Carbon Steel Flat Products From Korea to reflect the correction of certain ministerial errors in the Final Results. See Certain Corrosion-Resistant Carbon Steel Flat Products From Korea: Amended Final Results of Antidumping Administrative Review, 63 Fed. Reg. 20572 (April 27, 1998) (“Amended Final Results”).

Foreign producers Pohang Iron and Steel Co., Ltd. (“POSCO”), Pohang Coated Steel Co., Ltd. (“POCOS”), and Pohang Steel Industries Co., Ltd. (“PSI”) (collectively “POSCO Group”), and Inland Steel Industries Inc., Bethlehem Steel Corporation, U.S. Steel Corporation A Unit of USX Corporation, LTV Steel Co., Inc., National Steel Corporation, (collectively “domestic producers” or “petitioners”) contested at the CIT various aspects of the Department's Final Results and Amended Final Results.

On October 20, 1999, the CIT remanded certain aspects of the Department's Final Results and Amended Final Results. The court ordered the Department to explain or reconsider the following issues: (1) its determination that the POSCO Group's U.S. sales were constructed export price (“CEP”) as opposed to export price (“EP”) sales, (2) its inclusion of movement expenses in the calculation of CEP profit, (3) its calculation of and use of facts available for U.S. indirect selling expenses for the POSCO Group, and (4) Union's claim of free U.S. warehousing for one verification observation. See Pohang Iron and Steel Co., Ltd. et al v. United States, Consol. Ct. No. 98-04-00906, Slip Op. 99-112 (Ct. Int'l Trade October 20, 1999).

On February 22, 2000, the Department filed its redetermination pursuant to court remand. The Department re-examined, and recalculated the contested aspects of the Final Results and Amended Final Results. See Final Results of Redetermination Pursuant to Court Remand: Pohang Iron and Steel Co., Ltd. et al v. United States, Consol. Ct. No. 98-04-00906, Slip Op. 99-112 (Ct. Int'l Trade October 20, 1999) (“remand results”).

On July 6, 2000, the CIT sustained the Department's remand results with respect to Union's warehousing expenses and classification of the POSCO Group's U.S. sales as CEP sales, but remanded the remand results to the Department to correct further the indirect selling expenses adjustment. See Pohang Iron and Steel Co., Ltd. et al v. United States, Consol. Ct. No. 98-04-00906, Slip Op. 00-77 (Ct. Int'l Trade July 6, 2000).

On August 30, 2000, the Department filed its second redetermination pursuant to court remand. The Department re-calculated the POSCO Group's U.S. indirect selling expense adjustment by removing from interest expenses previously deducted imputed credit expenses in the programs used for the Final Results and Amended Final Results. See Final Results of Redetermination Pursuant to Court Remand: Pohang Iron and Steel Co., Ltd. et al v. United States, Consol. No. 98-04-00906, Slip Op. 00-77 (Ct. Int'l Trade July 6, 2000) (“second remand results”).

On October 13, 2000, the CIT affirmed the second remand results of the Department. See Pohang Iron and Steel Co., Ltd. et al v. United States, Consol. Ct. No. 98-04-00906, Slip Op. 00-132 (Ct. Int'l Trade October 13, 2000).

Amendment to Final Results

As the time period for appealing the CIT's decision sustaining the Department's second remand results has expired and no party has appealed this decision, litigation in this case is final and conclusive for Dongbu, POSCO, and Union. Pursuant to section 516 A(c) of the Act, we are therefore amending our final results of review for the period August 1, 1995 through July 31, 1996, to reflect the findings in the first and second remand results.

The revised weighted-average margins for the above companies are as follows:

Cold-Rolled Products:¹
Manufacturer/Exporter | Margin (percent)
Dongbu | 1.21
POSCO Group | 5.73
¹ Union had no sales during the POR.

Corrosion-Resistant Products:
Manufacturer/Exporter | Margin (percent)
Dongbu | 0.60
POSCO Group | 1.46
Union | 0.39

Accordingly, the Department will determine, and the U.S. Customs Service (“Customs”) will assess, antidumping duties on all appropriate entries of subject merchandise from Dongbu, POSCO, and Union, in accordance with these amended final results. For assessment purposes, we have calculated importer-specific duty assessment rates for each class or kind of merchandise. The Department will issue appraisement instructions directly to Customs. The above amended rates will not affect Dongbu, POSCO, and Union's cash deposit rates currently in effect, which continue to be based on the margins found to exist in the most recently completed review.

This notice is published in accordance with sections 751(a)(1) and 777(i) of the Tariff Act (19 U.S.C. 1675(a)(1) and 1677f(i)) and 19 C.F.R. 351.221.

Dated: June 5, 2002
Joseph A. Spetrini,
Acting Assistant Secretaryfor Import Administration.

[FR Doc. 02-14663 Filed 6-10-02; 8:45 am]

BILLING CODE 3510-DS-S